DEPARTMENT OF ENERGY

Federal Energy Regulatory Commission

[Project No. 13318-003]

Swan Lake North Hydro LLC; Notice of Anticipated Schedule of Final Order for Swan Lake North Pumped Storage Hydroelectric Project

On October 28, 2015, Swan Lake North Hydro LLC filed an application requesting authorization to construct and operate the Swan Lake North Pumped Storage Hydroelectric Project. The project would be located 11 miles northeast of Klamath Falls, in Klamath County, Oregon.

In accordance with Title 41 of the Fixing America's Surface Transportation Act, enacted on December 4, 2015, agencies are to publish completion dates for all federal environmental reviews and authorizations. This notice identifies the Commission's anticipated schedule for issuance of the final order for the Project, which is based on the anticipated date of issuance of the final Environmental Impact Statement. Accordingly, we currently anticipate issuing a final order for the Project no later than:

Issuance of Final Order—April 30, 2019

If a schedule change becomes necessary for the final order, an additional notice will be provided so that interested parties and government agencies are kept informed of the Project's progress.

Dated: September 6, 2018.
Nathaniel J. Davis, Sr.,
Deputy Secretary.

[FR Doc. 2018-19813 Filed 9-11-18; 8:45 am]

BILLING CODE 6717-01-P